DEPARTMENT OF THE TREASURY

Submission for OMB Review; Comment Request

June 21, 2011.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11010, 1750 Pennsylvania Avenue, NW., Washington, DC 20220.

DATES: Written comments should be received on or before July 25, 2011 to be assured of consideration.

Financial Crimes Enforcement Network (FinCEN)

OMB Number: 1506-0013.

Type of Review: Revision of a currently approved collection.

Title: Registration of Money Services Business, 31 CFR 1022.380.

Form: FinCEN Form 107.

Abstract: Money services businesses file Form 107 to register with the Department of the Treasury pursuant to 31 U.S.C. 5330 and 31 CFR 1022.380. The information on the form is used by criminal investigators, and taxation and regulatory enforcement authorities, during the course of investigations involving financial crimes.

Affected Public: Private Sector: Businesses or other for-profits.

Estimated Total Burden Hours: 42,000.

Bureau Clearance Officer: Russell Stephenson, Department of the Treasury, Financial Crimes Enforcement Network, P.O. Box 39, Vienna, VA 22183; (202) 354-6012

OMB Reviewer: Shagufta Ahmed, Office of Management and Budget, New Executive Office Building, Room 10235, Washington, DC 20503; (202) 395-7873

Dawn D. Wolfgang,
Treasury PRA Clearance Officer.

[FR Doc. 2011-15779 Filed 6-23-11; 8:45 am]

BILLING CODE 4810-02-P